DEPARTMENT OF EDUCATION

Privacy Act of 1974; System of Records—Impact Evaluation of Title I Supplemental Educational Services

AGENCY: Institute of Education Sciences, Department of Education.

ACTION: Notice of a new system of records.

SUMMARY: In accordance with the Privacy Act of 1974, as amended (Privacy Act), the Department of Education (Department) publishes this notice of a new system of records entitled “Impact Evaluation of Title I Supplemental Educational Services.” The National Center for Education Evaluation and Regional Assistance at the Department's Institute of Education Sciences (IES) commissioned this study to evaluate the effectiveness of Title I Supplemental Educational Services (SES) in improving the reading or mathematics achievement, or both, of students in Title I schools that have failed to make adequate yearly progress for three years.

Section 1116 of the Elementary and Secondary Education Act of 1965, as amended by the No Child Left Behind Act of 2001 (20 U.S.C. 6316), requires districts with Title I schools that fail to make adequate yearly progress for three years or more to offer SES to students from low-income families who attend these schools. SES are tutoring and other supplemental academic enrichment services that are offered in addition to instruction provided during the regular school day and are provided by State-approved providers free of charge to eligible students. Parents can choose the specific SES provider from among a list approved to serve their district. The Department has contracted with Mathematica Policy Research, Inc. to evaluate the impact of SES on student achievement in up to twelve school districts across the country.

The study will address the following questions:

(1) What is the impact of participation in Title I SES on student achievement in reading and mathematics?

(2) Are district characteristics and practices, SES provider characteristics and services, and student characteristics related to the impact on student achievement?

The evaluation will target school districts where Title I SES are oversubscribed. When more students apply for SES than the district is able to serve, under statute, the district must give priority to the lowest-achieving students. The students who apply but do not meet the achievement level criteria are an unbiased comparison group for the students who do participate in SES.

The system will contain information about approximately 50,000 third- to eighth-graders from up to twelve school districts. The system of records will include individually identifying information about the student applicants participating in the evaluation, including names; demographic information such as race, ethnicity, gender, age, and educational background; level of participation in SES programs; and scores on State reading and mathematics achievement tests.

DATES: The Department seeks comment on the new system of records described in this notice, in accordance with the requirements of the Privacy Act. We must receive your comments on the proposed routine uses for the system of records referenced in this notice on or before February 17, 2009.

The Department filed a report describing the new system of records covered by this notice with the Chair of the Senate Committee on Homeland Security and Governmental Affairs, the Chair of the House Committee on Oversight and Government Reform, and the Administrator of the Office of Information and Regulatory Affairs, Office of Management and Budget (OMB) on January 13, 2009. This system of records will become effective at the later date of—(1) the expiration of the 40-day period for OMB review on February 23, 2009 or (2) February 17, 2009, unless the system of records needs to be changed as a result of public comment or OMB review.

ADDRESSES: Address all comments about the proposed routine uses to Dr. Audrey Pendleton, Acting Associate Commissioner, Evaluation Division, National Center for Education Evaluation and Regional Assistance, Institute of Education Sciences, U.S. Department of Education, 555 New Jersey Avenue, NW., room 502E, Washington, DC 20208-0001. Telephone: (202) 208-7085. If you prefer to send comments through the Internet, use the following address: comments@ed.gov.

You must include the term “Impact Evaluation of Supplemental Educational Services” in the subject line of the electronic message.

During and after the comment period, you may inspect all comments about this notice at the U.S. Department of Education in room 502D, 555 New Jersey Avenue, NW., Washington, DC between the hours of 8:00 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Audrey Pendleton. Telephone: (202) 208-7085. If you use a telecommunications device for the deaf (TDD), you may call the Federal Relay Service (FRS) at 1-800-877-8339.

Individuals with disabilities can obtain this document in an alternative format (e.g., Braille, large print, audiotape, or computer diskette) on request to the contact person listed in this paragraph.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contains individually identifying information and that is retrieved by a unique identifier associated with each individual, such as a name or social security number. The information about each individual is called a “record,” and the system, whether manual or computer-based, is called a “system of records.”

The Privacy Act requires each agency to publish a notice of a system of records in the Federal Register and to prepare and send a report to OMB whenever the agency publishes a new system of records. Each agency is also required to send copies of the report to the Chair of the Senate Committee on Homeland Security and Governmental Affairs and the Chair of the House Committee on Oversight and Government Reform. These reports are intended to permit an evaluation of the probable effect of the proposal on the privacy rights of individuals.

Electronic Access to This Document

You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 13, 2009.
Sue Betka,
Acting Director, Institute of Education Sciences.

For the reasons discussed in the preamble, the Director of the Institute of Education Sciences, U.S. Department of Education, publishes a notice of a new system of records to read as follows:

18-13-20

SYSTEM NAME:

Impact Evaluation of Title I Supplemental Educational Services.

SECURITY CLASSIFICATION:

None.

SYSTEM LOCATION:

(1) Evaluation Division, National Center for Education Evaluation and Regional Assistance, Institute of Education Sciences (IES), U.S. Department of Education, 555 New Jersey Avenue, NW., room 502E, Washington, DC 20208-0001.

(2) Mathematica Policy Research, Inc., 600 Alexander Park, Princeton, NJ 08540-2393 and 955 Massachusetts Avenue, Suite 801, Cambridge, MA 02139-3226.

CATEGORIES OF INDIVIDUALS COVERED BY THE SYSTEM:

This system contains records on third-to eighth-grade students who are participating in an evaluation of the effectiveness of Title I Supplemental Educational Services (SES). Parents will apply to their school districts for their child to participate in SES. For students whose parents apply for them to participate in SES, the districts will provide to the Department's contractor demographic data, data on student achievement, and will report on whether or not students were selected to participate in SES. SES providers will provide information to the Department's contractor on the services provided to students.

The system will contain information about approximately 50,000 third- to eighth-graders. In up to twelve school districts, approximately 50,000 students are expected to apply to participate in Title I SES provided by the district, private providers, or both.

CATEGORIES OF RECORDS IN THE SYSTEM:

The system of records will include individually identifying information about the student applicants participating in the evaluation, including names; demographic information such as race, ethnicity, gender, age, and educational background; level of participation in SES programs; scores on State reading or mathematics achievement tests, or both; and, for each student participating in SES, the name and characteristics of SES provider organizations such as type of provider (district, private for profit, non-profit, community-based organization), location (at student's school or not at student's school), delivery method (teacher, technology, distance learning), and delivery group size (one-on-one, small group, large group).

AUTHORITY FOR MAINTENANCE OF THE SYSTEM:

The evaluation is authorized under section 1501(a)(2) of the Elementary and Secondary Education Act of 1965, as amended by the No Child Left Behind Act of 2001 (20 U.S.C. 6491(a)(2)), as well as sections 171(b) and 173 of the Education Sciences Reform Act of 2002 (ESRA) (20 U.S.C. 9561(b) and 9563).

PURPOSE(S):

The information in this system is used for the following purpose: To evaluate the effectiveness of Title I SES in improving the reading or mathematics achievement, or both, of students in Title I schools that have failed to make adequate yearly progress for three years.

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifiable information from a record in this system must also comply with the requirements of section 183 of the ESRA (20 U.S.C. 9573) providing for confidentiality standards that apply to all collections, reporting, and publication of data by IES.

Contract Disclosure. If the Department contracts with an entity for the purposes of performing any function that requires disclosure of records in this system to employees of the contractor, the Department may disclose the records to those employees. Before entering into such a contract, the Department will require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor (Mathematica Policy Research, Inc.) maintains data for this system on computers and in hard copy.

RETRIEVABILITY:

Records in this system are indexed and retrieved by a number assigned to each individual that is cross-referenced by the individual's name on a separate list.

SAFEGUARDS:

All physical access to the Department's site and to the sites of the Department's contractor where this system of records is maintained is controlled and monitored by security personnel. The computer system employed by the Department offers a high degree of resistance to tampering and circumvention. This security system limits data access to Department and contract staff on a need-to-know basis, and controls individual users' ability to access and alter records within the system. The contractor will establish similar sets of procedures at its sites to ensure confidentiality of data. The contractor's system is required to ensure that information identifying individuals is in files physically separated from other research data. The contractor will maintain security of the complete set of all master data files and documentation. Access to individually identifying data will be strictly controlled. At each contractor site, all data will be kept in locked file cabinets during nonworking hours, and work on hardcopy data will take place in a single room, except for data entry. Physical and cyber security of electronic data will also be maintained. Security features that protect project data include: Password-protected accounts that authorize users to use the contractor's systems but to access only specific network directories and network software; user rights and directory and file attributes that limit those who can use particular directories and files and determine how they can use them; and additional security features that the network administrators will establish for projects as needed. The contractor employees who “maintain” (collect, maintain, use, or disseminate) data in this system must comply with the requirements of the confidentiality standards in section 183 of the ESRA (20 U.S.C. 9573).

RETENTION AND DISPOSAL:

Records are maintained and disposed of in accordance with the Department's Records Disposition Schedules (ED/RDS, Part 3, Item 2b and Part 3, Items 4b and 5a).

SYSTEM MANAGER AND ADDRESS:

Acting Associate Commissioner, Evaluation Division, National Center for Education Evaluation and Regional Assistance, Institute of Education Sciences, U.S. Department of Education, 555 New Jersey Avenue, NW., room 502E, Washington, DC 20208.

NOTIFICATION PROCEDURE:

If you wish to determine whether a record exists regarding you in the system of records, contact the systems manager. Your request must meet the requirements of the regulations in 34 CFR 5b.5, including proof of identity.

RECORD ACCESS PROCEDURE:

If you wish to gain access to your record in the system of records, contact the system manager. Your request must meet the requirements of the regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

The system of records will include individually identifying information collected from school districts on third-to eighth graders applying to participate in Title I SES and the SES provider organization for each student participating in SES. Data collected will include information about the student applicants participating in the evaluation, including names; demographic information such as race, ethnicity, gender, age, and educational background; level of participation in SES programs; scores on State reading or mathematics achievement tests, or both; and, for each student participating in SES, the name and characteristics of SES provider organizations such as type of provider (district, private for profit, non-profit, community-based organization), location (at student's school or not at student's school), delivery method (teacher, technology, distance learning), and delivery group size (one-on-one, small group, large group).

EXEMPTIONS CLAIMED FOR THE SYSTEM:

None.

[FR Doc. E9-972 Filed 1-15-09; 8:45 am]

BILLING CODE 4000-01-P